DEPARTMENT OF THE INTERIOR

National Park Service

30-Day Notice of Submission to the Office of Management and Budget (OMB); Opportunity for Public Comment

AGENCY: Department of the Interior, National Park Service.

ACTION: Notice and request for comments.

SUMMARY: Under provisions of the Paperwork Reduction Act of 1995 and 5 CFR Part 1320, Reporting and Recordkeeping Requirements, the National Park Service (NPS) invites public comments on a proposed new collection of information (OMB # 1024-XXXX).

DATES: Public comments on this Information Collection Request (ICR) will be accepted on or before July 2, 2009.

ADDRESSES: You may submit comments directly to the Desk Officer for the Department of the Interior (OMB #1024-XXXX), Office of Information and Regulatory Affairs, OMB, by fax at 202/395-5806, or by electronic mail at oira_docket@omb.eop.gov. Please also send a copy of your comments to Angela Walters, Appalachian National Scenic Trail, National Park Service, P.O Box 50, Harpers Ferry, WV 25425; Fax 304/535-6270, e-mail: angela_walters@nps.gov.

FOR FURTHER INFORMATION CONTACT: Dr. James Gramann, NPS Social Science Program, 1201 “Eye” St., Washington, DC 20005; or via phone at 202/513-7189; or via e-mail James_Gramann@partner.nps.gov. You are entitled to a copy of the entire ICR package free-of-charge. You may access this ICR at http://www.reginfo.gov/public/.

Comments Received on the 60-Day Federal Register Notice

The NPS published a 60-Day Notice to solicit public comments on this ICR entitled “Clearance of Collection of Information; Opportunity for Public Comment” in the Federal Register on January 30, 2008 (73 FR 5588-5589). The comment period closed on March 31, 2008. After multiple notifications to stakeholders requesting comments, the NPS received one comment as a result of the publication of this 60-Day Federal Register Notice. The comment expressed concern over tax dollars being spent on this study. A response was sent to the individual, explaining the necessity of the survey for the NPS to work with its partners to better manage the Appalachian Trail lands. No further comment has been received.

SUPPLEMENTARY INFORMATION:

Title: Appalachian Trail Management Partner Survey.

Bureau Form Number(s): None.

OMB Number: To be requested.

Expiration Date: To be requested.

Type of Request: New collection.

Description of Need: The National Park Service Act of 1916, 38 Stat 535, 16 U.S.C. 1, et seq., requires that the NPS preserve national parks for the use and enjoyment of present and future generations. The Appalachian National Scenic Trail is an unusual unit of the national park system, managed through a decentralized volunteer-based cooperative management system involving eight national forests, six other national park units, agencies in fourteen states, the Appalachian Trail Conservancy and citizen volunteers in 30 affiliated trail club organizations. The Government Performance and Results Act (GPRA) of 1993 (Pub. L. 103-62) requires that the NPS develop goals and measure performance related to these goals. The Appalachian Trail Management Partner Survey (ATMPS) measures performance toward those goals through a partner satisfaction survey. The project is an element of the NPS Strategic Plan and the Department of the Interior (DOI) Strategic Plan.

The purpose of the ATMPS is to track the satisfaction of federal, state, and not-for-profit partner organizations and agencies receiving support from the Appalachian Trail Park Office (ATPO) to protect trail resources and provide for the public enjoyment and visitor experience of the Appalachian National Scenic Trail. The ATPO provides support to state and federal agencies, and not-for-profit organizations to assist them in fulfilling shared and delegated management activities in the management of the Appalachian National Scenic Trail. Achievement of on-the-ground results depends on the actions of these partner agencies and organizations. Progress towards management goals is measured by a satisfaction survey where key partners evaluate quality of support provided by ATPO. This effort is required by GPRA and other NPS and DOI strategic planning efforts. Data from the proposed survey is needed to assess performance regarding NPS GPRA goal IIb0. NPS performance on all goals measured in this study will contribute to DOI Department-wide performance reports.

Automated Data Collections: This information will be collected via electronic mail surveys.

Description of Respondents: Respondents include representatives from partner groups, including Nonprofit Organizations and State and Federal Agencies.

Estimated Average Number of Respondents: 57 respondents & 19 non-respondents.

Estimated Average Number of Responses: 57 responses & 19 non-responses.

Estimated Average Burden Hours Per Response: 10 minutes for respondents & 1 minute for non-respondents.

Frequency of Response: 1 time per respondent.

Estimated Total Annual Reporting Burden: 10 hours.

Comments are invited on: (1) The practical utility of the information being gathered; (2) the accuracy of the burden hour estimate; (3) ways to enhance the quality, utility, and clarity of the information being gathered; and (4) ways to minimize the burden to respondents, including use of automated information collection techniques or other forms of information. Before including your address, phone number, e-mail address, or other personal identifying information in your comment, you should be aware that your entire comment—including your personal identifying information—may be made publicly available at any time. While you can ask OMB in your comment to withhold your personal identifying information from public review, we cannot guarantee that we will be able to do so.

Dated: May 26, 2009.
Cartina Miller,
NPS, Information Collection Clearance Officer.

[FR Doc. E9-12712 Filed 6-1-09; 8:45 am]

BILLING CODE 4312-52-P